FEDERAL EMERGENCY MANAGEMENT AGENCY

[FEMA-1340-DR]

Montana; Amendment No. 1 to Notice of a Major Disaster Declaration

AGENCY: Federal Emergency Management Agency (FEMA).

ACTION: Notice.

SUMMARY: This notice amends the notice of a major disaster for the State of Montana, (FEMA-1340-DR), dated August 30, 2000, and related determinations.

EFFECTIVE DATE: September 19, 2000.

FOR FURTHER INFORMATION CONTACT: Madge Dale, Response and Recovery Directorate, Federal Emergency Management Agency, Washington, DC 20472, (202) 646-3772.

SUPPLEMENTARY INFORMATION: The notice of a major disaster for the State of Montana is hereby amended to include the following areas among those areas determined to have been adversely affected by the catastrophe declared a major disaster by the President in his declaration of August 30, 2000:

Big Horn, Blaine, Carter, Chouteau, Custer, Fallon, Fergus, Garfield, Golden Valley, Hill, Liberty, Musselshell, Petroleum, Phillips, Powder River, Prairie, Rosebud, Toole, Treasure, and Yellowstone Counties for Individual Assistance.

Fort Belknap, Rocky Boy's, Crow, and Northern Cheyenne Indian Reservations for Individual Assistance.

(The following Catalog of Federal Domestic Assistance Numbers (CFDA) are to be used for reporting and drawing funds: 83.537, Community Disaster Loans; 83.538, Cora Brown Fund Program; 83.539, Crisis Counseling; 83.540, Disaster Legal Services Program; 83.541, Disaster Unemployment Assistance (DUA); 83.542, Fire Suppression Assistance; 83.543, Individual and Family Grant (IFG) Program; 83.544, Public Assistance Grants; 83.545, Disaster Housing Program; 83.548, Hazard Mitigation Grant Program.)

Robert J. Adamcik,
Deputy Associate Director, Response and Recovery Directorate.

[FR Doc. 00-24703 Filed 9-25-00; 8:45 am]

BILLING CODE 6718-02-P